DEPARTMENT OF AGRICULTURE

Forest Service

Butte Resource Advisory Committee

AGENCY: Forest Service, USDA.

ACTION: Notice of meeting.

SUMMARY: The Butte Resource Advisory Committee (RAC) will meet in Oroville, California. Attendees may also participate via conference call. The RAC is authorized under the Secure Rural Schools and Community Self-Determination Act (the Act) (Pub. L. 110-343) and operates in compliance with the Federal Advisory Committee Act of 1972 (5 U.S.C. App. 2). The purpose of the RAC is to improve collaborative relationships and to provide advice and recommendations to the Forest Service concerning projects and funding consistent with the Title II of the Act. The meeting is open to the public. Additional information concerning the RAC, including the agenda, can be found by visiting the RAC's Web site at: http://www.fs.usda.gov/main/pts/specialprojects/racweb.

DATES: The meeting will be held, in-person and via conference call on September 22, 2014 at 6:30 p.m.

All RAC meetings are subject to cancellation. For updated status of the meeting prior to attendance, please contact the person listed under FOR FURTHER INFORMATION CONTACT.

ADDRESSES: The meeting will be held at the Feather River Ranger District Conference Room, 875 Mitchell Avenue, Oroville, California. For anyone who would like to attend via conference call, please visit the Web site listed above for the call-in information or contact Lee Anne Schramel listed under the FOR FURTHER INFORMATION CONTACT section.

Written comments may be submitted as described under SUPPLEMENTARY INFORMATION. All comments, including names and addresses when provided, are placed in the record and are available for public inspection and copying. The public may inspect comments received at the Plumas National Forest Headquarters, 159 Lawrence Street, Quincy, California. Please call ahead to facilitate entry into the building.

FOR FURTHER INFORMATION CONTACT: Lee Anne Schramel, Butte RAC Coordinator, by phone at (530) 283-7850, by email at easchramel@fs.fed.us, or via facsimile at (530) 283-7719.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to recommend allocation of FY13 funding among projects. The agenda will include time for people to make oral statements of three minutes or less. Individuals wishing to make an oral statement should request in writing by September 12, 2014 to be scheduled on the agenda. Anyone who would like to bring related matters to the attention of the RAC may file written statements with the committee staff before or after the meeting. Written comments and time requests for oral comments must be sent to Lee Anne Schramel listed under the FOR FURTHER INFORMATION CONTACT section. Additional RAC information, including the agenda and the summary/minutes can be found at the following Web site: http://www.fs.usda.gov/main/pts/specialprojects/racweb 21 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: August 27, 2014.
Earl W. Ford,
Forest Supervisor.

[FR Doc. 2014-21136 Filed 9-4-14; 8:45 am]

BILLING CODE 3411-15-P